DEPARTMENT OF HOMELAND SECURITY

Coast Guard

33 CFR Part 100

[Docket No. USCG-2017-0342]

Special Local Regulations and Safety Zones; Recurring Marine Events and Fireworks Displays Within the Fifth Coast Guard District

AGENCY: Coast Guard, DHS.

ACTION: Notice of enforcement of regulation.

SUMMARY: The Coast Guard will enforce a special local regulation for the Cambridge Classic Powerboat Race scheduled to take place on Hambrooks Bay and Choptank River, Cambridge, MD, during May 13-14, 2017. This date is a change to those listed for the annually scheduled event, as indicated in U.S. Coast Guard regulations, because the event sponsor changed the scheduled date of this annual power boat race. During the enforcement period, the Coast Guard patrol commander or designated marine event patrol may forbid and control the movement of all vessels in the regulated area. This action is necessary to ensure safety of life on navigable waters during the event.

DATES: The regulation at 33 CFR 100.501, Table to 100.501 (b.) 21, Cambridge Classic Power Boat Race will be enforced from 9:30 a.m. to 6:30 p.m. on May 13 and May 14, 2017.

FOR FURTHER INFORMATION CONTACT: If you have questions about this notice of enforcement, call or email Mr. Ron Houck, U.S. Coast Guard Sector Maryland-National Capital Region (WWM Division); telephone 410-576-2674, email Ronald.L.Houck@uscg.mil.

SUPPLEMENTARY INFORMATION: The Coast Guard was notified by the Cambridge Power Boat Racing Association, Inc. on January 21, 2017 through submission of a marine event application and during a March 28, 2017 pre-event meeting with the sponsor that, due to a scheduling change, a change of dates is necessary to the dates previously published in the Code of Federal Regulations (CFR) for this annually scheduled marine event, as listed in the Table to 33 CFR 100.501. The date of the annual power boat race is changed to May 13, 2017 and May 14, 2017. The Coast Guard will enforce the regulated area in 33 CFR 100.501 from 9:30 a.m. to 6:30 p.m. on May 13, 2017, and 9:30 a.m. to 6:30 p.m. on May 14, 2017, for the Cambridge Classic Powerboat Race. This action is being taken to provide for the safety of life on navigable waterways during this event. As specified in § 100.501(c), during the enforcement period, the Coast Guard patrol commander or designated marine event patrol may forbid and control the movement of all vessels in the regulated area.

This notice of enforcement is issued under authority of 33 CFR 100.501(f) and 5 U.S.C. 552(a). In addition to this notice of enforcement in the Federal Register, the Coast Guard will provide notification of this enforcement period via Local Notice to Mariners and marine information broadcasts.

Dated: May 1, 2017.
Lonnie P. Harrison, Jr.,
Captain, U.S. Coast Guard, Captain of the Port Maryland-National Capital Region.

[FR Doc. 2017-09162 Filed 5-4-17; 8:45 am]

BILLING CODE 9110-04-P